DEPARTMENT OF TRANSPORTATION

Federal Aviation Administration

14 CFR Part 39

[Docket No. FAA-2011-0543; Directorate Identifier 2011-CE-018-AD; Amendment 39-16709; AD 2011-12-02]

RIN 2120-AA64

Airworthiness Directives; Viking Air Limited Model DHC-3 (Otter) Airplanes With Supplemental Type Certificate (STC) SA 09866SC

AGENCY: Federal Aviation Administration (FAA), DOT.

ACTION: Final rule; correction.

SUMMARY: The FAA is correcting an airworthiness directive (AD) that published in the Federal Register. That AD applies to Viking Air Limited Model DHC-3 (Otter) airplanes equipped with a Honeywell TPE331-10 or -12JR turboprop engine installed per STC SA09866SC (Texas Turbines Conversions, Inc.). The wording on how the AD is justified and the wording of the temporary placard need clarification. The clarification does not affect the actions of the AD. This document makes this clarification. In all other respects, the original document remains the same.

DATES: This final rule is effective October 11, 2011. The effective date for AD 2011-12-02 remains June 2, 2011.

ADDRESSES: You may examine the AD docket on the Internet at http://www.regulations.gov; or in person at the Docket Management Facility between 9 a.m. and 5 p.m., Monday through Friday, except Federal holidays. The AD docket contains this AD, the regulatory evaluation, any comments received, and other information. The address for the Docket Office (phone: 800-647-5527) is Document Management Facility, U.S. Department of Transportation, Docket Operations, M-30, West Building Ground Floor, Room W12-140, 1200 New Jersey Avenue, SE., Washington, DC 20590.

FOR FURTHER INFORMATION CONTACT: Peter W. Hakala, Aerospace Engineer, Special Certification Office, FAA, Rotorcraft Directorate, 2601 Meacham Blvd., Fort Worth, Texas 76137; phone: (817) 222-5145; fax: (817) 222-5785; e-mail: peter.w.hakala@faa.gov.

SUPPLEMENTARY INFORMATION: Airworthiness Directive 2011-12-02, Amendment 39-16709 (76 FR 31800, June 2, 2011), currently requires incorporating revised airspeed limitations and marking the airspeed indicator accordingly for Viking Air Limited Model DHC-3 (Otter) airplanes equipped with a Honeywell TPE331-10 or -12JR turboprop engine installed per STC SA09866SC (Texas Turbines Conversions, Inc.). There is also a requirement for the installation of a temporary placard until the airspeed indicator can be modified but not to exceed a certain period of time.

As published, the wording on justification for the AD and the wording of the temporary placard need clarification. The clarification does not affect the actions of the AD. Only the changed portion of the final rule is being published in the Federal Register.

The effective date of this AD remains June 2, 2011.

Correction of Non-Regulatory Text

In the Federal Register of June 2, 2011, AD 2011-12-02; Amendment 39-16709 (76 FR 31800, June 2, 2011), is corrected as follows:

On page 31800, in the third column, on line two under Airworthiness Directives; add at the end of the section the phrase “with Supplemental Type Certificate (STC) SA09866SC.”

On page 31801, in the first column, at the end of the fifth line from the top and beginning of the sixth line from the top, remove the phrase “as stated in the regulations.”

On page 31801, in the first column, in lines 10 through 12 from the top, replace the phrase “that exceed the speeds established in the federal aviation regulations for safe operation” with “that exceed those determined to be safe by the FAA.”

On page 31801, in the second column, in lines 7 and 8 from the top, remove the phrase “as stated in the regulations.”

On page 31801, in the second column, in lines 4 through 7 of the first full paragraph, replace the “with color band markings that do not comply with 14 CFR 23.1505(c). This could result in reduced safety margins that may result in an unsafe condition.” with “with color band markings that could result in reduced safety margins and cause an unsafe condition.”

On page 31801, in the second column, in lines 5 through 7 of the third full paragraph, replace the phrase “that exceed the speeds established in the federal aviation regulations for safe operation” with “that exceed those determined to be safe by the FAA.”

Correction of Regulatory Text

§ 39.13 [Corrected]

In the Federal Register of June 2, 2011, AD 2011-12-02; Amendment 39-16709 (76 FR 31800, June 2, 2011), on page 31802, paragraphs (e) and (f)(2) of AD 2011-12-02 are corrected to read as follows:

(e) This AD was prompted by analysis that showed that airspeed limitations for the affected airplanes are not adjusted for the installation of a turboprop engine. We are issuing this AD to prevent the loss of airplane structural integrity due to the affected airplanes being able to operate at speeds that exceed those determined to be safe by the FAA.

(f)(2) Fabricate a placard using letters of at least ⅛-inch in height with the following words: “Maximum certificated operating speed is 144 MPH, VMO speed limit for land/ski plane and 134 MPH, VMO speed limit for seaplane.” Install this placard on the airplane instrument panel next to the airspeed indicator within the pilot's clear view.

Issued in Kansas City, Missouri, on October 3, 2011.
Earl Lawrence,
Manager, Small Airplane Directorate, Aircraft Certification Service.

[FR Doc. 2011-26002 Filed 10-7-11; 8:45 am]

BILLING CODE 4910-13-P